DEPARTMENT OF STATE

[Public Notice 9455]

Privacy Act; System of Records: Protocol Records, State-33.

SUMMARY: Notice is hereby given that the Department of State proposes to amend an existing system of records, Protocol Records, State-33, pursuant to the provisions of the Privacy Act of 1974, as amended (5 U.S.C. 552a) and Office of Management and Budget Circular No. A-130, Appendix I.

DATES: This system of records will be effective on April 6, 2016, unless we receive comments that will result in a contrary determination.

ADDRESSES: Any persons interested in commenting on the amended system of records may do so by writing to the Director; Office of Information Programs and Services, A/GIS/IPS; Department of State, SA-2; 515 22nd Street NW., Washington, DC 20522-8100.

FOR FURTHER INFORMATION CONTACT: John Hackett, Director; Office of Information Programs and Services, A/GIS/IPS; Department of State, SA-2; 515 22nd Street NW., Washington, DC 20522-8100, or at Privacy@state.gov.

SUPPLEMENTARY INFORMATION: The Department of State proposes that the current system will retain the name “Protocol Records” (previously published at 78 FR 54945). The information in this system of records is an accounting of those U.S. Government officials receiving gifts and decorations from foreign governments and to record for historical, organizational, and logistical purposes the names of the individuals applying to participate, invited to, supporting, and attending official Department of State functions or other events co-sponsored with the Federal Government or other partners, and to verify individuals nominated as a diplomatic representative on behalf of a foreign government. The proposed system will include modifications to the following sections: System location, Categories of individuals, Categories of records, Purpose, Routine Uses, Safeguards, System managers, and administrative updates.

The Department's report was filed with the Office of Management and Budget. The amended system description, “Protocol Records, State-33,” will read as set forth below.

Joyce A. Barr,
Assistant Secretary for Administration, U.S. Department of State.

STATE-33

SYSTEM NAME:

Protocol Records.

SYSTEM CLASSIFICATION:

Unclassified and Classified.

SYSTEM LOCATION:

Department of State, 2201 C Street NW., Washington, DC 20520. Abroad at U.S. embassies, U.S. consulates general, and U.S. consulates; U.S. missions; Department of State annexes; various field and regional offices throughout the United States. Within a government cloud, implemented by the Department of State and provided by a cloud-based software as a service (SaaS) provider.

CATEGORIES OF INDIVIDUALS COVERED BY THE SYSTEM:

Individuals covered by this system include those receiving gifts and decorations from foreign governments; individuals invited to and supporting official Department of State functions or other events co-sponsored with the federal government or other partners; applicants for participation and attendees of Department of State conferences or other events co-sponsored with the federal government or other partners; individuals who are part of foreign delegations; individuals working at foreign embassies, missions and organizations; and nominees for foreign ambassadorships to the United States.

CATEGORIES OF RECORDS IN THE SYSTEM:

Records in this system include descriptions of gifts and decorations received from foreign governments; donors; guest lists; type of function; sample invitations; contact information, address and occupation; biographical information (this includes, but is not limited to: Names, nationalities and citizenship, résumés, curricula vitae, copies of passports, copies of visas, dates of birth, and photographs), special needs, requests and accommodations, travel arrangements and related information, security information, and application and registration information.

AUTHORITY FOR MAINTENANCE OF THE SYSTEM:

22 U.S.C. 2621, 22 U.S.C. 2625, 22 U.S.C. 4301 et seq.

PURPOSE:

The information in this system of records is an accounting of those U.S. Government officials receiving gifts and decorations from foreign governments and to record for historical, organizational, and logistical purposes the names of the individuals applying to participate, invited to, supporting, and attending official Department of State functions or other events co-sponsored with the Federal Government or other partners, and to verify individuals nominated as a diplomatic representative on behalf of a foreign government.

ROUTINE USES OF RECORDS MAINTAINED IN THE SYSTEM, INCLUDING CATEGORIES OF USERS AND THE PURPOSES OF SUCH USES:

The information contained in these records may be shared with:

(a) The Executive Office of the President; Congress; and other government agencies having statutory or other lawful authority to maintain such information.

(b) A contractor of the Department having need for the information in the performance of the contract, but not operating a system of records within the meaning of 5 U.S.C. 552a(m);

(c) Nongovernmental organizations, individuals, and panels to review applications and otherwise aid in the selection of participants in Department of State conferences and related functions;

(d) The news media and the public, with the approval of the Chief of Mission or Bureau Assistant Secretary who supervises the office responsible for the outreach effort, provided that the approving official determines that there is legitimate public interest in the information disclosed, except to the extent that release of the information would constitute an unwarranted invasion of personal privacy;

(e) Foreign governments where there is a need to verify the information provided for their delegates;

(f) Other Federal, State, and Local Governments for uses within their statutory missions, which may include law enforcement, transportation and border security, critical infrastructure protection, and fraud prevention; and

(g) Other individuals and organizations applying to, invited to, attending, or supporting a given conference, provided that the subject of the information opts-in to such sharing.

The Department of State publishes periodically in the Federal Register its Prefatory Statement of Routine Uses which applies to all of its Privacy Act System of Records. These standard routine uses apply to Protocol Records, State-33.

POLICIES AND PRACTICES FOR STORING, RETRIEVING, ACCESSING, RETAINING, AND DISPOSING OF RECORDS IN THE SYSTEM:

STORAGE:

Electronic and hard copy media.

RETRIEVABILITY:

By an individual name.

SAFEGUARDS:

All users are given cyber security awareness training which covers the procedures for handling Sensitive But Unclassified (SBU) information, including personally identifiable information (PII). Annual refresher training is mandatory. In addition, all Foreign Service and Civil Service employees and those Locally Engaged Staff who handle PII are required to take the Foreign Service Institute distance learning course, PA 459, instructing employees on privacy and security requirements, including the rules of behavior for handling PII and the potential consequences if it is handled improperly.

Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage. When it is determined that a user no longer needs access, the user account is disabled.

Before being granted access to Protocol Records, a user must first be granted access to the Department of State computer system. Remote access to the Department of State network from non-Department owned systems is authorized only to unclassified systems and only through a Department approved access program. Remote access to the network is configured with the Office of Management and Budget Memorandum M-07-16 security requirements which include but are not limited to two-factor authentication and time out function. All Department of State employees and contractors with authorized access have undergone a thorough background security investigation.

The safeguards in the following paragraphs apply only to records that are maintained in cloud systems. All cloud systems that provide IT services and process Department of State information must be: (1) Provisionally authorized to operate by the Federal Risk and Authorization Management Program (FedRAMP), and (2) specifically authorized by the Department of State Authorizing Official and Senior Agency Official for Privacy. Only information that conforms with Department-specific definitions for Federal Information Security Management Act (FISMA) low or moderate categorization are permissible for cloud usage. Specific security measures and safeguards will depend on the FISMA categorization of the information in a given cloud system. In accordance with Department policy, systems that process more sensitive information will require more stringent controls and review by Department cybersecurity experts prior to approval. Prior to operation, all Cloud systems must comply with applicable security measures that are outlined in FISMA, FedRAMP, OMB regulations, NIST Federal Information Processing Standards (FIPS) and Special Publication (SP), and Department of State policy and standards.

All data stored in cloud environments categorized above a low FISMA impact risk level must be encrypted at rest and in-transit using a federally approved encryption mechanism. The encryption keys shall be generated, maintained, and controlled in a Department data center by the Department key management authority. Deviations from these encryption requirements must be approved in writing by the Authorizing Official.

RETENTION AND DISPOSAL:

Records are retired and destroyed in accordance with published Department of State Records Disposition Schedules as approved by the National Archives and Records Administration (NARA). More specific information may be obtained by writing to the following address: Director, Office of Information Programs and Services, A/GIS/IPS; SA-2, Department of State; 515 22nd Street NW., Washington, DC 20522-8100.

SYSTEM MANAGER(S) AND ADDRESS:

Assistant Chief of Protocol for Management and Executive Director, Office of the Chief of Protocol, Department of State, 2201 C Street NW., Washington, DC 20520.

The Director of Major Events and Conferences Staff, Office of Major Events and Conferences, Department of State, 2201 C Street NW., Washington DC, 20520.

NOTIFICATION PROCEDURE:

Individuals who have cause to believe that the Office of the Chief of Protocol or Office of Major Events and Conferences Staff may have records pertaining to him or her should write to the following address: Director; Office of Information Programs and Services, A/GIS/IPS; SA-2 Department of State; 515 22nd Street NW., Washington, DC 20522-8100.

The individual must specify that he or she requests the records of the Office of the Chief of Protocol or the Office of Major Events and Conferences Staff to be checked. At a minimum, the individual must include the following: Name, date and place of birth, current mailing address and zip code, signature, and any other information helpful in identifying the record.

RECORD ACCESS PROCEDURES:

Individuals who wish to gain access to or amend records pertaining to themselves should write to the Director; Office of Information Programs and Services (address above).

CONTESTING RECORD PROCEDURES:

(See above).

RECORD SOURCE CATEGORIES:

These records contain information collected directly from: The individual who is the subject of these records; employers and public references; other officials in the Department of State; other government agencies; foreign governments; and other public and professional institutions possessing relevant information.

SYSTEMS EXEMPTED FROM CERTAIN PROVISIONS OF THE ACT:

None.

[FR Doc. 2016-04192 Filed 2-25-16; 8:45 am]

BILLING CODE 4710-24-P